DEPARTMENT OF HEALTH AND HUMAN SERVICES

Food and Drug Administration

[Docket No. FDA-2011-N-0411]

Bristol-Myers Squibb Co. et al.; Withdrawal of Approval of 70 New Drug Applications and 97 Abbreviated New Drug Applications; Correction

AGENCY: Food and Drug Administration, HHS.

ACTION: Notice; correction.

SUMMARY: The Food and Drug Administration (FDA) is correcting a notice that appeared in the Federal Register of June 8, 2011. The document announced the withdrawal of approval of 70 new drug applications (NDAs) and 97 abbreviated new drug applications from multiple applicants, effective July 8, 2011. The document contained the incorrect applicant information for NDA 018380. The correct applicant for NDA 018380 is Hospira, Inc. This document corrects that error.

FOR FURTHER INFORMATION CONTACT: Florine Purdie, Center for Drug Evaluation and Research, Food and Drug Administration, 10903 New Hampshire Ave., Bldg. 51, Rm. 6248, Silver Spring, MD 20993-0002, 301-796-3601.

SUPPLEMENTARY INFORMATION: In the Federal Register of Wednesday, June 8, 2011 (76 FR 33310), appearing on page 33310 in FR Doc. 2011-14164, the following correction is made:

On page 33311, in table 1, in the “Applicant” column for NDA 018380, correct the entry “Do.” to read “Hospira, Inc., 275 North Field Dr., Bldg. H2, Lake Forest, IL 60045-5046.”

Dated: August 14, 2019.
Lowell J. Schiller,
Principal Associate Commissioner for Policy.

[FR Doc. 2019-17933 Filed 8-19-19; 8:45 am]

BILLING CODE 4164-01-P